DEPARTMENT OF LABOR

Office of the Secretary

Submission for OMB Review; Comment Request

September 20, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Records of Preshift and Onshift Inspections of Slope and Shaft Areas.

OMB Number: 1219-0082.

Affected Public: Business or other for-profit.

Frequency: Twice per shift.

Number of Respondents: 35.

Number of Annual Responses: 11,858.

Total Estimated Burden Hours: 14,823.

Total Annualized Capital/Startup Costs: $0.

Total Annual Costs (operating/maintaining systems of purchasing services): $0.

Description: Requires coal mine operators to conduct examinations of slope and shaft areas for hazardous conditions, including tests for methane and oxygen deficiencies, before and during each shift and before blasting. Records of the results of the inspections are required to be kept.

Type of Review: Extension of a currently approved collection.

Agency: Mine Safety and Health Administration (MSHA).

Title: Fire Protection, Escape and Evacuation Plan.

OMB Number: 1219-0051.

Affected Public: Business or other for-profit.

Frequency: On occasion.

Number of Respondents: 59.

Number of Annual Responses: 59.

Total Estimated Burden Hours: 263.

Total Annualized Capital/Startup Costs: $0.

Total Annual Costs (operating/maintaining systems or purchasing services): $0.

Description: Requires coal mine operators to establish and keep current a specific escape and evacuation plan to be followed in the event of a fire. The plan is used to instruct employees in the proper method of exiting work areas.

Type of Review: Revision of a currently approved collection.

Agency: Employment and Training Administration.

Title: Overpayment Detection and Recovery Activities.

OMB Number: 1205-0173.

Affected Public: State and local governments.

Frequency of Response: Quarterly.

Total Respondents: 53.

Total Responses: 212.

Total Estimated Burden Hours: 2,968.

Total Annualized Capital/Startup Costs: $0.

Total Annual Costs (operating and Maintenance: $0.

Description: The Secretary of Labor has interpreted applicable sections of Federal law to require States to include reasonable provisions in their Unemployment Insurance (UI) laws that concern the prevention, detection and recovery of benefit overpayment caused by willful misrepresentation or errors by claimants or others. This report provides an accounting of the types and amounts of such overpayment and serves as a useful management tool for monitoring overall integrity in the UI system.

Ira L. Mills,
Departmental Clearance Officer.

[FR Doc. 00-25611 Filed 10-04-00; 8:45 am]

BILLING CODE 4510-43-M